DEPARTMENT OF THE INTERIOR

Bureau of Land Management

[NV912-1640-PH-006F; 08-08807; TAS: 14X1109]

Notice of Public Meeting: Sierra Front-Northwestern Great Basin Resource Advisory Council, Northeastern Great Basin Resource Advisory Council, and Mojave-Southern Great Basin Resource Advisory Council, Nevada

AGENCY: Bureau of Land Management, Interior.

ACTION: Combined Resource Advisory Council Meeting.

SUMMARY: In accordance with the Federal Land Policy and Management Act and the Federal Advisory Committee Act of 1972 (FACA), the Department of the Interior, Bureau of Land Management (BLM) Nevada's three Resource Advisory Council will hold a joint meeting.

DATES: Thursday, November 13, 2008, from 8 a.m. to 5 p.m., and Friday, November 14, 2008, from 8 a.m. to 12 p.m., at the Gold Coast Hotel-Casino, 4000 W. Flamingo Road, Las Vegas, Nevada.

FOR FURTHER INFORMATION CONTACT: Rochelle Ocava (775) 861-6588 or Rochelle_Ocava@blm.gov.

SUPPLEMENTARY INFORMATION: The three 15-member Nevada Councils advise the Secretary of the Interior, through the BLM Nevada State Director, on a variety of planning and management issues associated with public land management in Nevada. Agenda topics include a presentation and discussion of accomplishments during 2008 and the outlook for 2009 for the BLM in Nevada; opening remarks and closeout reports of the three Resource Advisory Councils (RACs); breakout meetings of each group category; breakout meetings of the three RACs; discussion of a recreation subgroup of the existing RACs; and setting of schedules for meetings of the individual RACs for the coming year. An agenda will be available 30 days prior to the meeting at http://www.blm.gov/nv. All meetings are open to the public. The public may present written comments to the three RAC groups or the individual RACs. The public comment period for the Council meeting will be at 3 p.m. on Thursday, November 13. Individuals who plan to attend and need further information about the meeting or need special assistance such as sign language interpretation or other reasonable accommodations should contact Rochelle Ocava.

Dated: September 23, 2008.
Ron Wenker,
State Director, Nevada.

[FR Doc. E8-23126 Filed 9-30-08; 8:45 am]

BILLING CODE 4310-HC-P